DEPARTMENT OF STATE

Bureau of Administration

[Public Notice 4278]

Notice of Availability of Alternative Fueled Vehicle (AFV) Reports for Fiscal Years 1998 Through 2002

AGENCY: Department of State.

ACTION: Notice.

SUMMARY: The U.S. Department of State, Bureau of Administration, is issuing this notice in order to comply with the Energy Policy Act of 1992, 42 U.S.C. 13201 <http://web2.westlaw.com/Find/Default.wl?DB=1000546&DocNa me=42USCAS13201&FindType=L&AP=&RS=WLW2.81&VR=2.0&SV=Split&MT=Westlaw&FN=_top> et seq. and the United States District Court for the Northern District of California's order, in case number C 02-0027 WHA, Center for Biological Diversity, Bluewater Network and the Sierra Club v. Spencer Abraham, et al., that Federal agencies must place all alternative fueled vehicle data for Fiscal Years 1996 through 2001 on a publicly accessible Web site. The purpose of this notice is to announce the public availability of the Department of State's reports for Fiscal Years 1998 (no earlier report extant) through 2002 at the following Web site: http://www.state.gov/m/a/c8503.htm.

FOR FURTHER INFORMATION CONTACT: Questions regarding the reports of the AFV report Web site should be addressed to the Domestic Fleet Management and Operations Division (A/OPR/GSM/FMO) [Attn: Chappell Garner], 2201 C Street NW., Washington, DC 20520, phone: (202) 647-3159.

SUPPLEMENTARY INFORMATION: The Earthjustice Environmental Law Clinic filed suit in Federal court in California on January 2, 2002 on behalf of the Center for Biological Diversity, Bluewater Network and the Sierra Club against the Department of the Interior and 16 other Federal agencies for failing to comply with the alternative fueled vehicle (AFV) acquisition and reporting requirements for Federal fleets imposed by the Energy Policy Act of 1992 (EPAct). The lawsuit requested the court to order Interior and the other Federal agencies to comply with EPAct requirements and offset future vehicle purchases with the number of AFVs necessary to bring them into compliance with the requirements of the EPAct.

Dated: February 12, 2003.
Vincent J. Chaverini,
Deputy Assistant Secretary, Office of Operations, Department of State.

[FR Doc. 03-3849 Filed 2-13-03; 8:45 am]

BILLING CODE 4710-24-P